DEPARTMENT OF EDUCATION

34 CFR Chapter III

[Docket ID ED-2020-OPE-0044]

Final Waiver and Extension of the Project Period for the Predominantly Black Institutions (PBI) Competitive Grant Program

AGENCY: Office of Postsecondary Education (OPE), Department of Education.

ACTION: Final waiver and extension of project periods.

SUMMARY: The Secretary waives the requirements in the Education Department General Administrative Regulations that generally prohibit project periods exceeding five years and project period extensions involving the obligation of additional Federal funds. The waiver and extension would enable 23 projects under Catalog of Federal Domestic Assistance (CFDA) number 84.382A to receive funding for an additional period, not to exceed September 30, 2021.

DATES: The waiver and extension of the project periods are effective August 7, 2020.

FOR FURTHER INFORMATION CONTACT: Bernadette Miles, U.S. Department of Education, 400 Maryland Avenue SW, Room 250-22, Washington, DC 20202. Telephone: 202-453-7892. Email: Bernadette.Miles@ed.gov.

If you use a telecommunications device for the deaf (TDD) or a text telephone (TTY), call the Federal Relay Service (FRS), toll free, at 1-800-877-8339.

SUPPLEMENTARY INFORMATION: On March 23, 2020, we published a notice in the Federal Register (85 FR 16307) proposing an extension of the project period and a waiver of the requirements in 34 CFR 75.250, which prohibit project periods exceeding five years, as well as a waiver of the requirements in 34 CFR 75.261(a) and (c)(2), which allow the extension of a project period only if the extension does not involve the obligation of additional Federal funds, in order to enable the Secretary to provide additional funds to 23 projects under CFDA number 84.382A for an additional period, not to exceed September 30, 2021.

Background

We are extending the 23 PBI projects in order to align and coordinate the funding cycles of all discretionary grant programs authorized under Title III, Part F, Section 371 of the Higher Education Act of 1965, as amended (HEA). With the extension, the PBI program will align with (1) the Alaska Native and Native Hawaiian-serving Institutions programs (CFDA numbers 84.031R & 84.031V); (2) the Asian American and Native American Pacific Islander-serving Institutions program (CFDA number 84.382B); (3) the Native American-serving Non-Tribal Institutions program (CFDA number 84.382C); and (4) the Hispanic-Serving Institutions Science, Technology, Engineering, and Mathematics and Articulation program (CFDA number 84.031C).

In September 2015, the Department made 23 60-month awards to eligible institutions funded by the PBI program as follows:

Institution | State
University of West Alabama | AL
Mid-South/Arkansas State University | AR
Pulaski Technical College | AR
South Georgia Technical College | GA
Albany Technical College | GA
Oconee Fall Line Technical College | GA
Augusta Technical College | GA
Central Georgia Technical College | GA
Georgia State University | GA
Malcolm X College | IL
Olive Harvey College | IL
Chicago State University | IL
Mississippi Delta Community College | MS
Halifax Community College | NC
Bloomfield College | NJ
Medgar Evers College | NY
York College | NY
Community College of Philadelphia | PA
Northeastern Technical College | SC
Florence-Darlington Technical College | SC
Central Carolina Technical College | SC
Southwest Tennessee Community College | TN
Cedar Valley College | TX

All current project periods for these grantees end on September 30, 2020. One additional PBI, South Suburban College, was funded in 2016. Its project currently has an end date of September 30, 2021, and thus, does not need this waiver or extension.

The purpose of the PBI program is to increase the institutions' capacity to prepare students for careers in STEM; health education; internationalization or globalization; teacher preparation; or improve educational outcomes of African American males.

Public Comment:

In response to our invitation in the notice of proposed waiver and extension of the project periods, 15 parties submitted responsive comments. Generally, we do not address technical and other minor changes. In addition, we do not address general comments that raise concerns not directly related to the proposed waiver and extension.

There are no substantive differences between the proposed waiver and extension and this final waiver and extension.

Analysis of Comments and Changes

Comment: Thirteen of the 15 commenters provided favorable and supportive comments regarding the proposed waiver and extension of the project periods. These commenters expressed appreciation for the work carried out by these projects. Many of these commenters also noted that the extension would continue to allow students the opportunity to be connected to resources that will lead to graduations and jobs. One of the 13 commenters, who was currently funded under this program, stated that due to the success of their institution's project, extending the grant would have a considerable and measurable positive impact on furthering the goals and objectives of the projects funded under this program.

Discussion: We thank these commenters for their support for extending the project periods, and we agree that extending the project periods will allow for a continued positive impact on the students and successful project outcomes by the end of fiscal year (FY) 2021.

Changes: None.

Comment: Two commenters were in opposition, but did not substantively address the proposed waiver extension.

Discussion: We thank these commenters for their comments concerning the PBI program. However, since these comments did not relate to the purpose of the PBI program, we are not making changes to the proposed waiver and extension.

Changes: None.

Final Waivers and Extensions:

We are extending the 23 PBI projects in order to align and coordinate the funding cycles of all discretionary grant programs authorized under Title III, Part F, Section 371 of the HEA. With the final extension, the PBI program funding cycles will align with (1) the Alaska Native and Native Hawaiian-serving Institutions programs (CFDA numbers 84.031R & 84.031V); (2) the Asian American and Native American Pacific Islander-serving Institutions program (CFDA number 84.382B); (3) the Native American-serving Non-Tribal Institutions program (CFDA number 84.382C); and (4) the Hispanic-Serving Institutions Science, Technology, Engineering, and Mathematics and Articulation program (CFDA number 84.031C).

The waivers and extensions will allow the Department to align and coordinate the award cycles of all of the Title III, Part F competitive grant programs, and improve the efficiency and cost-effectiveness of direct training and technical assistance services focused on the competitive strengthening institutions programs. In addition, the Department will consider approaches for improving coordination among projects that provide these services to meet the needs of these institutions more efficiently and effectively and to allow for efficient use of the funding available to support these activities.

We do not believe that it would be in the public interest to run a competition for this program in FY 2020. The program has remaining FY 2019 appropriated funds to be carried over to the current FY 2020 grant cycle. Further, running an FY 2020 competition would continue an award cycle that would not coordinate with the Department's existing Title III Part F competitive grant programs.

The Department has also concluded that it would not be in the public interest to run two consecutive program competitions with the first using the appropriated 2019 carry over funds and the second using the funds appropriated by H.R. 2486, the Fostering Undergraduate Talent by Unlocking Resources for Education (FUTURE) Act, because doing so would increase the burden on potential applicants.

For these reasons, the Secretary waives the requirements in 34 CFR 75.250, which prohibit project periods exceeding five years, and the requirements in 34 CFR 75.261(a) and (c)(2), which allow the extension of a project period only if the extension does not involve the obligation of additional Federal funds. The waiver will allow the Department to issue one-time FY 2020 continuation awards to the current 23 PBI program grantees estimated as follows:

Institution | State | Award
University of West Alabama | AL | $414,672
Mid-South/Arkansas State University | AR | 599,996
Pulaski Technical College | AR | 599,856
South Georgia Technical College | GA | 600,000
Albany Technical College | GA | 600,000
Oconee Fall Line Technical College | GA | 545,459
Augusta Technical College | GA | 591,493
Central Georgia Technical College | GA | 596,148
Georgia State University | GA | 600,000
Malcolm X College | IL | 590,500
Olive Harvey College | IL | 543,246
Chicago State University | IL | 600,000
Mississippi Delta Community College | MS | 600,000
Halifax Community College | NC | 600,000
Bloomfield College | NJ | 600,000
Medgar Evers College | NY | 600,000
York College | NY | 600,000
Community College of Philadelphia | PA | 600,000
Northeastern Technical College | SC | 599,252
Florence-Darlington Technical College | SC | 599,993
Central Carolina Technical College | SC | 599,921
Southwest Tennessee Community College | TN | 600,000
Cedar Valley College | TX | 467,126

Any activities carried out during the year of this continuation award must be consistent with the scope, goals, and objectives of the grantees' applications as approved in the 2015 competition. The requirements for continuation awards are set forth in 34 CFR 75.253.

Waiver of Delayed Effective Date

The Administrative Procedure Act requires that a substantive rule must be published at least 30 days before its effective date, except as otherwise provided for good cause (5 U.S.C. 553(d)(3)). All but two of the comments we received supported the proposed waiver and extension, and we have not made any substantive changes to the proposed waiver and extension. A delayed effective date would be contrary to public interest because we would not be able to ensure there is not a lapse in technical assistance services currently provided by the projects. Therefore, the Secretary waives the delayed effective date provision for good cause.

Regulatory Flexibility Act Certification

The Secretary certifies that the final waiver and extension of the project period will not have a significant economic impact on a substantial number of small entities. The only entities that will be affected by the final waiver and extension of the project period are the current grantees and any other potential applicants.

The Secretary certifies that the final waiver and extension will not have a significant economic impact on these entities because the extension of an existing project period imposes minimal compliance costs, and the activities required to support the additional year of funding would not impose additional regulatory burdens or require unnecessary Federal supervision.

Paperwork Reduction Act of 1995

This final waiver and extension of the project period does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Robert L. King,
Assistant Secretary for Postsecondary Education.

[FR Doc. 2020-17407 Filed 8-5-20; 4:15 pm]

BILLING CODE 4000-01-P